DEPARTMENT OF HEALTH AND HUMAN SERVICES

Centers for Disease Control and Prevention

[60 Day-10-10DT]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam Daneshvar, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Monitoring and Reporting System for Chronic Disease Prevention and Control Programs—New—National Center for Chronic Disease Prevention and Health Promotion (NCCDPHP), Centers for Disease Control and Prevention (CDC).

Background and Brief Description

Chronic diseases are the leading causes of death and disability in the United States, accounting for seven of every ten deaths and affecting the quality of life for 90 million Americans. Chronic diseases represent 83% of all U.S. health care spending.

The National Center for Chronic Disease Prevention and Health Promotion (NCCDPHP) provides funding to health departments in States, territories, and the District of Columbia to implement and evaluate chronic disease prevention and control programs. Traditionally, support has been provided through cooperative agreements that are specific to a chronic disease or condition. In 2009, CDC announced a new cooperative agreement program for collaborative chronic disease prevention and health promotion programs (RFA DP09-901; authorized under sections 301, 307, 310, and 311 of the Public Health Service Act [42 U.S.C. 241 and 247(b)(k)). The new program streamlines funding, communication and collaboration in four areas that have previously been funded and evaluated independently: Tobacco control, diabetes prevention and control, State-based surveillance through the Behavioral Risk Factor Surveillance System (BRFSS), and the Healthy Communities initiative. Awardees are the 50 States, the District of Columbia, Puerto Rico, and the Virgin Islands. The new cooperative agreement encourages each awardee to collaborate with partners (both internal and external to the State health department) to develop and implement a multi-year, statewide strategic plan.

CDC requests OMB approval to collect information from the four specified State programs through a new, electronic Management Information System (MIS). Upon approval, the new information collection system will replace two previously approved information collections for tobacco control programs (OMB No. 0920-0601, exp. 5/31/2010), and diabetes prevention and control programs (OMB No. 0920-0479, exp. 4/30/2013), and harmonize their content. In addition, the new MIS will provide a common progress reporting framework for State-based BRFSS programs and Healthy Community programs, which have previously reported progress information to CDC using standard progress reporting forms for cooperative agreement awardees (OMB No. 4040-0004, exp. 3/31/2012).

Information will be collected on each program's objectives, planning activities, resources, partnerships, policy and environmental strategies for preventing or controlling chronic diseases, and progress toward meeting goals. The increased emphasis on partnership and collaboration is intended to identify priorities, gaps in chronic disease prevention and health promotion activities, and opportunities to leverage CDC and State (Federal and non-Federal) resources. Information will be collected electronically through a new Management Information System (MIS). The collection of information, in a uniform and efficient manner, will reduce duplicative reporting requirements for awardees, minimize respondent burden, facilitate collaborative efforts and provide common performance metrics across program areas. The collaborative cooperative agreement is part of an initiative within NCCDPHP to standardize and streamline the funding and performance monitoring processes for programs funded through the Center; to promote more efficient ways to use resources; and to achieve greater health impact. The objectives for awardees, and the performance indicators defined for them, reflect CDC's support for more integrated approaches to the prevention and control of chronic conditions.

Awardees will use the information collection to manage and coordinate their activities and to improve their efforts to prevent and control chronic diseases. The MIS will allow awardees to fulfill their reporting obligations under the cooperative agreements in an efficient manner by employing a single instrument to collect necessary information for both progress reports and continuation applications including work plans.

CDC will use the information collected in the MIS to monitor each awardee's progress and to make adjustments, as needed, in the type and level of technical assistance provided to them. The information collection will allow CDC to oversee the use of Federal funds, and identify and disseminate information about successful prevention and control strategies implemented by awardees. CDC will also use the information collection to respond to Congressional and stakeholder inquiries about chronic disease control activities, program implementation, and program impact. Finally, the information collection will allow CDC to evaluate the success of the collaborative funding model which places increased emphasis on partnerships as well as policy and environmental strategies for preventing and controlling chronic diseases.

Information will be collected from each State-based program twice per year. There are no costs to respondents other than their time.

Estimated Annualized Burden Table
Type of respondents | Number of respondents | Number of responses per respondent | Average burden per response (in hours) | Total burden
State Diabetes Program | 53 | 2 | 6 | 636
State Tobacco Program | 53 | 2 | 6 | 636
State BRFSS Program | 53 | 2 | 6 | 636
State Healthy Communities Program | 53 | 2 | 6 | 636
Total |  |  |  | 2,544

Carol Walker,
Acting Reports Clearance Officer, Centers for Disease Control and Prevention.

[FR Doc. 2010-12537 Filed 5-24-10; 8:45 am]

BILLING CODE 4163-18-P